DEPARTMENT OF JUSTICE

Notice of Lodging of Consent Decree Under the Safe Drinking Water Act

Notice is hereby given that on July 13, 2009, a proposed Consent Decree (“Decree”) in United States v. Skull Valley Band of Goshute Indians, Civil Action No. 2:09-CV-617(bhw), was lodged with the United States District Court for the District of Utah, Central Division.

The Consent Decree requires the Skull Valley Band of Goshute Indians (the “Tribe”) to (1) achieve and maintain compliance with the Safe Drinking Water Act (“SDWA”) and its implementing regulations; (2) pay a civil penalty of $1,250 to redress the Tribe's past violations of the SDWA and its implementing regulations; and (3) perform a Supplemental Environmental Project (“SEP”) valued at $3,750 that will secure public health protection and improvements of the Tribe's Public Water System (“PWS”) located in Tooele County, Utah. Specifically, the SEP requires the Tribe to purchase and install a telemetry system to improve the efficiency and accuracy of maintaining the water level in the PWS storage tank.

The United States filed a Complaint with the Consent Decree that alleged violations of Sections 1414 and 1431 of the Safe Drinking Water Act (“SDWA”), 42 U.S.C. 300g-3, 300i, related to the Tribe's operation of its PWS and the tribally-owned Pony Express Store, a road-side convenience store that provides water to the Tribal community and members of the public who patronize the store. The Consent Decree would resolve the claims against the Tribe as described in the Complaint. The ultimate entry of the Consent Decree by the District Court of Utah would end this litigation.

The Department of Justice will receive for a period of thirty (30) days from the date of this publication comments relating to the Decree. Comments should be addressed to the Assistant Attorney General, Environment and Natural Resources Division, and either e-mailed to the pubcomment-ees.enrd@usdoj.gov or mailed to P.O. Box 7611, U.S. Department of Justice, Washington, DC 20044-7611, and should refer to Civil Action No. 2:09-CV-617(bhw), D.J. Ref. No. 90-5-1-1-09108.

The Decree may be examined at the Office of the United States Attorney, District of Utah, 185 South State Street, Suite 300, Salt Lake City, Utah 84111. It also may be examined at the offices of U.S. EPA Region 8, 1595 Wynkoop Street, Denver, Colorado 80202. During the public comment period, the Decree may be examined on the following Department of Justice Web site, http://www.usdoj.gov/enrd/Consent_Decrees.html.

A copy of the Decree may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $10.75 (25 cents per page reproduction cost) payable to the U.S. Treasury or, if by e-mail or fax, forward a check in that amount to the Consent Decree Library at the stated address.

Maureen Katz,
Assistant Section Chief, Environmental Enforcement Section, Environment and Natural Resources Division.

[FR Doc. E9-16999 Filed 7-16-09; 8:45 am]

BILLING CODE 4410-15-P